INTERNATIONAL TRADE COMMISSION

[Investigation Nos. 731-TA-1632, 1634-1635, 1639 (Final)]

Mattresses From India, Kosovo, Mexico, and Spain; Supplemental Schedule for the Final Phase of Antidumping Duty Investigations

AGENCY: United States International Trade Commission.

ACTION: Notice.

DATES: July 22, 2024.

FOR FURTHER INFORMATION CONTACT: Mary Messer ((202) 205-3193), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective March 1, 2024, the Commission established a general schedule for the conduct of the final phase of its countervailing duty investigation on mattresses from Indonesia and its antidumping duty investigations on mattresses from Bosnia and Herzegovina, Bulgaria, Burma, India, Italy, Kosovo, Mexico, Philippines, Poland, Slovenia, Spain, and Taiwan (89 FR 16026, March 6, 2024), following preliminary determinations by the U.S. Department of Commerce (“Commerce”) that imports of mattresses from Indonesia are not being subsidized by the Government of Indonesia (89 FR 57, January 2, 2024) and imports of mattresses from Bosnia and Herzegovina, Bulgaria, Burma, India, Italy, Kosovo, Mexico, Philippines, Poland, Slovenia, Spain, and Taiwan are being sold at less than fair value (89 FR 15121-15124, 15126-15134, 15136-15157, 15161-15164, March 1, 2024). Notice of the scheduling of the final phase of the Commission's investigations and of a public hearing held in connection therewith was given by posting copies of the notice in the Office of the Secretary, U.S. International Trade Commission, Washington, DC, and by publishing the notice in the Federal Register on March 6, 2024 (89 FR 16026). The Commission conducted its in-person hearing on May 9, 2024. All persons who requested the opportunity were permitted to participate.

On May 15, 2024, Commerce issued final affirmative antidumping duty determinations with respect to mattresses from Bosnia and Herzegovina (89 FR 42448), Bulgaria (89 FR 42443), Burma (89 FR 42427), Italy (89 FR 42429), Philippines (89 FR 42432), Poland (89 FR 42435), Slovenia (89 FR 42437), and Taiwan (89 FR 42439). The Commission subsequently issued its final determinations that an industry in the United States was materially injured by reason of imports of mattresses from Bosnia and Herzegovina, Bulgaria, Burma, Italy, Philippines, Poland, Slovenia, and Taiwan provided for in subheadings 9404.21.00, 9404.29.10, and 9404.29.90 of the Harmonized Tariff Schedule of the United States (“HTSUS”) that were found by Commerce to be sold in the United States at less than fair value. (89 FR 55657, July 5, 2024).

On July 22, 2024, Commerce's final negative countervailing duty determination with respect to imports of mattresses from Indonesia (89 FR 59050) and final affirmative antidumping duty determinations with respect to imports of mattresses from India (89 FR 59047), Kosovo (89 FR 59043), Mexico (89 FR 59062), and Spain (89 FR 59059) were published in the Federal Register. Accordingly, the Commission currently is issuing a supplemental schedule for its antidumping duty investigations on imports of mattresses from India, Kosovo, Mexico, and Spain.

This supplemental schedule is as follows: the deadline for filing supplemental party comments on Commerce's final antidumping duty determinations is 5:15 p.m. on August 2, 2024. Supplemental party comments may address only Commerce's final antidumping duty determinations regarding imports of mattresses from India, Kosovo, Mexico, and Spain. These supplemental final comments may not contain new factual information and may not exceed five (5) pages in length. The supplemental staff report in the final phase of the current investigations will be placed in the nonpublic record on August 9, 2024, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: July 23, 2024.
Lisa Barton,
Secretary to the Commission.

[FR Doc. 2024-16515 Filed 7-25-24; 8:45 am]

BILLING CODE 7020-02-P